ENVIRONMENTAL PROTECTION AGENCY

[FRL-7230-2]

Proposed Settlement Under Section 122(h) of the Comprehensive Environmental Response, Compensation and Liability Act

AGENCY: Environmental Protection Agency (EPA).

ACTION: Notice of proposed administrative settlement and opportunity for public comment—Rockaway Township Wellfield Superfund Site.

SUMMARY: The United States Environmental Protection Agency (“EPA”) proposes entering into an administrative settlement to resolve certain claims under the Comprehensive Environmental Response, Compensation and Liability Act, as amended (“CERCLA”). EPA is publishing this notification to inform the public of the proposed settlement and of the opportunity to comment. This settlement is intended to resolve the liability of Alliant Techsystems Inc. for certain future response costs to be incurred by EPA at the Rockaway Township Wellfield Superfund Site (“the Site”) in Rockaway and Denville Townships, New Jersey.

DATES: Comments must be provided on or before July 12, 2002.

ADDRESSES: Comments should be addressed to the United States Environmental Protection Agency, Office of Regional Counsel, 290 Broadway, New York, New York 10007, and should refer to: In the Matter of the Rockaway Township Wellfield Superfund Site: Administrative Settlement, U.S. EPA Index No. 02-2002-2010.

FOR FURTHER INFORMATION CONTACT: United States Environmental Protection Agency, Office of Regional Counsel, 290 Broadway, New York, New York 10007; Attention: Virginia A. Curry, Esq. (212) 637-3134 or curry.virginia@epa.gov.

SUPPLEMENTARY INFORMATION: In accordance with section 122(h) of CERCLA, notification is hereby given of a proposed administrative settlement with Alliant Techsystems Inc. by which this company will pay all EPA future costs at the Site that are not remedial design/remedial action oversight costs. Alliant will remediate the contaminated soil and groundwater at the Denville Technical Park portion of the Site under a separate agreement with the State of New Jersey. Alliant previously paid all EPA's past costs other than costs incurred in EPA's oversight of the remedial design/remedial action costs. This Site is within the jurisdiction of the Third Circuit which has ruled that parties are not liable under CERCLA for remedial design/remedial action oversight costs. Alliant will receive a covenant not to sue for all EPA's past costs and all paid future costs. The Attorney General has approved this settlement.

Dated: May 24, 2002.
William J. Muszynski,
Deputy Regional Administrator, Region 2.

[FR Doc. 02-14765 Filed 6-11-02; 8:45 am]

BILLING CODE 6560-50-P